DEPARTMENT OF COMMERCE

International Trade Administration

[A-471-807]

Certain Uncoated Paper From Portugal: Amended Final Results of Antidumping Duty Administrative Review; 2017-2018

AGENCY: Enforcement and Compliance, International Trade Administration, Department of Commerce.

SUMMARY: The Department of Commerce (Commerce) is amending the final results of the administrative review of the antidumping duty (AD) order on certain uncoated paper (uncoated paper) from Portugal to correct a ministerial error.

DATES: Applicable December 27, 2019.

FOR FURTHER INFORMATION CONTACT: Rachel Greenberg, or Robert Scully, AD/CVD Operations, Office V, Enforcement and Compliance, International Trade Administration, U.S. Department of Commerce, 1401 Constitution Avenue NW, Washington, DC 20230; telephone: (202) 482-0652 or (202) 482-0572, respectively.

SUPPLEMENTARY INFORMATION:

Background

On November 20, 2019, Commerce published in Final Results of the second administrative review of the AD order on uncoated paper from Portugal and completed the disclosure of all calculation materials to interested parties.¹ On November 19, 2019, The Navigator Company S.A. (Navigator), the mandatory respondent in this administrative review, timely filed a ministerial error allegation regarding the Final Results.²

¹ See Certain Uncoated Paper From Portugal: Final Results of the Antidumping Duty Administrative Review; 2017-2018, 84 FR 64040 (November 20, 2019) (Final Results).

² See Navigator's Letter, “Certain Uncoated Paper from Portugal: Ministerial Error Allegation,” dated November 19, 2019.

Legal Framework

A ministerial error, as defined in section 751(h) of the Tariff Act of 1930, as amended (the Act), includes “errors in addition, subtraction, or other arithmetic function, clerical errors resulting from inaccurate copying, duplication, or the like, and any other type of unintentional error which the administering authority considers ministerial.” ³ With respect to final results of administrative reviews, 19 CFR 351.224(e) provides that Commerce “will analyze any comments received and, if appropriate, correct any ministerial error by amending . . . the final results of review. . . .”

³ See 19 CFR 351.224(f).

Ministerial Error

Commerce committed an inadvertent error within the meaning of section 751(h) of the Act and 19 CFR 351.224(f), by failing to use the most current databases to calculate the margin, which incorporated “minor corrections” accepted by Commerce during verification.⁴ Accordingly, we have determined, in accordance with section 751(h) of the Act and 19 CFR 351.224(f), that an unintentional ministerial error was made in the Final Results. Pursuant to 19 CFR 351.224(e), Commerce is amending the Final Results to reflect the correction of this ministerial error. Specifically, we have now revised the calculation to include the latest version of Navigator's databases. This correction results in a change to Navigator's weighted-average dumping margin. For a detailed discussion of this ministerial error, as well as Commerce's analysis, see Ministerial Error Memorandum.⁵

⁴ See Memorandum, “Verification of the Sales Response of The Navigator Company, S.A. in the Antidumping Duty Administrative Review of Certain Uncoated Paper From Portugal,” dated August 21, 2019, at 1-2 and VE-1.

⁵ See Memorandum, “Amended Final Results of the 2017-2018 Administrative Review of the Antidumping Duty Order of Certain Uncoated Paper from Portugal: Allegations of Ministerial Error” (Ministerial Error Memorandum) (December 17, 2019).

Amended Final Results of the Review

As a result of correcting the ministerial error described above, we determine that the weighted-average dumping margin for Navigator exists for the period March 1, 2017 through February 28, 2018:

Exporter/producer | Weighted- average dumping margin (percent)
The Navigator Company, S.A | 4.37

Disclosure

We intend to disclose the calculation performed for these amended final results in accordance with 19 CFR 351.224(b).

Antidumping Duty Assessment

Pursuant to section 751(a)(2)(C) of the Act, and 19 CFR 351.212(b)(1), Commerce has determined, and U.S. Customs and Border Protection (CBP) shall assess, antidumping duties on all appropriate entries of subject merchandise in accordance with the amended final results of this review.

Pursuant to 19 CFR351.212(b)(1), we will calculate importer-specific assessment rates on the basis of the ratio of the total amount of antidumping duties calculated for each importer's examined sales and the total entered value of the sales. For entries of subject merchandise during the period of review ⁶ produced by the respondent for which it did not know its merchandise was destined for the United States, we will instruct CBP to liquidate unreviewed entries at the all-others rate if there is no rate for the intermediate company(ies) involved in the transaction. We intend to issue liquidation instructions to CBP 15 days after publication of this notice.

⁶ The period of review is March 1, 2018 through February 28, 2019.

Cash Deposit Requirements

The following cash deposit requirements will be effective retroactively for all shipments of the subject merchandise entered, or withdrawn from warehouse, for consumption on or after November 20, 2019, the date of the publication of the Final Results, as provided by section 751(a)(2)(c) of the Act: (1) The cash deposit rate for each specific company listed above will be that established in the amended final results; (2) for previously reviewed or investigated companies, including those for which Commerce may have determined had no shipments during the period of review, the cash deposit will continue to be the company-specific rate published for the most recent completed segment of this proceeding in which the company participated; (3) if the exporter is not a firm covered in this or an earlier review, or the original-less-than-fair-value (LTFV) investigation, but the manufacturer is, then the cash deposit rate will be the rate established for the most recently completed segment of this proceeding for the manufacturer of the merchandise; and (4) if neither the exporter nor the manufacturer is a firm covered in this or any previously completed segment of this proceeding, then the cash deposit rate will be the all-others rate of 7.80 percent established in the LTFV investigation.⁷ These deposit requirements, when imposed, shall remain in effect until further notice.

⁷ See Certain Uncoated Paper From Portugal: Final Determination of Sales at Less than Fair Value and Final Negative Determination of Critical Circumstances, 81 FR 3105 (January 20, 2016).

Notification to Importers

This notice serves as a final reminder to importers of their responsibility under 19 CFR 251.402(f)(2) to file a certificate regarding the reimbursement of antidumping duties prior to liquidation of the relevant entries during this review period. Failure to comply with this requirement could result in the Secretary's presumption that reimbursement of antidumping duties occurred and the subsequent assessment of doubled antidumping duties.

Administrative Protective Order

This notice serves as a reminder to parties subject to administrative protective order (APO) to their responsibility concerning the disposition of proprietary information disclosed under APO in accordance with 19 CFR 351.305(a)(3), which continues to govern business proprietary information in this segment of the proceeding. Timely written notification of return/destruction of APO materials or conversion to judicial protective order is hereby requested. Failure to comply with the regulations and terms of an APO is a sanctionable violation.

Notification to Interested Parties

These amended final results and notice are issued and published in accordance with Sections 751(h) and 777(i) of the Act and 19 CFR 351.224(e).

Dated: December 17, 2019.
Jeffrey I. Kessler,
Assistant Secretary for Enforcement and Compliance.

[FR Doc. 2019-27935 Filed 12-26-19; 8:45 am]

BILLING CODE 3510-DS-P